DEPARTMENT OF HOUSING AND URBAN DEVELOPMENT

24 CFR Part 35

[Docket No. FR-3482-C-10]

RIN 2501-AB57

Requirements for Notification, Evaluation, and Reduction of Lead-Based Paint Hazards in Housing Receiving Federal Assistance and Federally Owned Residential Property Being Sold, Conforming Amendments and Corrections

Correction

In rule document 04-13873 beginning on page 34262 in the issue of Monday, June 21, 2004, make the following correction:

§35.110 [Corrected]

On page 34271, in §35.110, in the third column, in the first full paragraph, in the fifth and sixth lines, remove the duplicated text “Visual assessment means looking for, as applicable.”.

[FR Doc. C4-13873 Filed 7-1-04; 8:45 am]

BILLING CODE 1505-01-D